DEPARTMENT OF AGRICULTURE

Risk Management Agency

Notice of Request for Revision of a Currently Approved Collection

AGENCY: Risk Management Agency, USDA.

ACTION: Revision of a currently approved collection; comment request.

SUMMARY: In accordance with the Paperwork Reduction Act of 1995, this notice announces a public comment period on the information collection requests (ICRs) associated with the Standard Reinsurance Agreement and Appendices II and IV administered by Federal Crop Insurance Corporation (FCIC). Appendix I and III are excluded because Appendix I is the program Integrity Statement which does not contain any document submission requirements, and Appendix III contains the Data Acceptance System requirements.

DATES: Written comments on this notice will be accepted until close of business, September 5, 2006.

ADDRESSES: Interested persons are invited to submit written comments to Dave Miller, Reinsurance Services Division, Federal Crop Insurance Corporation, United States Department of Agriculture (USDA), 1400 Independence Avenue, SW., Stop 0804, Washington, DC 20250. Written comments may also be submitted electronically to: dave.miller@rma.usda.gov.

FOR FURTHER INFORMATION CONTACT: Dave Miller, Senior Reinsurance Analyst, Risk Management Agency, at the address listed above, telephone (202) 720-9830.

SUPPLEMENTARY INFORMATION: Title: Standard Reinsurance Agreement; Appendices II and IV.

OMB Number: 0563-0069.

Type of Request: Revised and new Information Collection.

Abstract: The Federal Crop Insurance Act (Act), Title 7 U.S.C. Chapter 36, Section 1508(k), authorizes the FCIC to provide reinsurance to insurers approved by FCIC that insure producers of any agricultural commodity under one or more plans acceptable to FCIC. The Act also states that the reinsurance shall be provided on such terms and conditions as the Board may determine to be consistent with subsections (b) and (c) of this section and sound reinsurance principles.

FCIC executes the same form of reinsurance agreement, called the Standard Reinsurance Agreement (SRA), with sixteen participating insurers approved for the 2006 reinsurance year. Appendix II of the SRA, the Plan of Operations (Plan), sets forth the information the insurer is required to file with RMA for the initial and each subsequent reinsurance year. The Plan's information enables RMA to evaluate the insurer's financial and operational capability to deliver the crop insurance program in accordance with the Act. Estimated premiums by fund by state, and retained percentages along with current policyholders surplus are used in calculations to determine whether to approve the insurer's requested maximum reinsurable premium volume for the reinsurance year per 7 CFR part 400 subpart L. This information has a direct effect upon the insurer's amount of retained premium and associated liability and is required to calculate the insurer's underwriting gain or loss.

Appendix IV is incorporated into the SRA and establishes the minimum annual agent and loss adjuster training requirements, and quality control review procedures and performance standards required of all insurers who deliver any policy reinsured under the Act. In order to evaluate their compliance with the terms of the SRA, FCIC requires each insurer to submit, for each reinsurance year, an Annual Summary Report to FCIC containing details of the results of their completed reviews.

Since the currently approved information collection package does not account for new information collections implemented in the 2005 reinsurance year, we are asking the Office of Management and Budget (OMB) to approve this revised information collection activity for 3 years.

The purpose of this notice is to solicit comments from the public concerning this information collection activity as associated with the SRA in effect for the 2005 and subsequent reinsurance years. These comments will help us:

(1) Evaluate whether the proposed collection of information is necessary for the proper performance of the functions of the agency, including whether the information has practical utility;

(2) Evaluate the accuracy of the agency's estimate of the burden of the proposed collection of information;

(3) Enhance the quality, utility, and clarity of the information to be collected; and

(4) Minimize the burden of the collection of information on those who are to respond, through use, as appropriate, of automated, electronic, mechanical, and other collection technologies, e.g., permitting electronic submission of responses.

The SRA includes Conflict of Interest data collection, which in addition to the insurance companies reinsured by FCIC encompasses the insurance companies' employees and their contracted agents and loss adjusters. The estimate below shows the burden that will be placed upon the following affected entities.

Estimate of Burden: The public reporting burden for the collection Appendix II information is estimated to average 279 hours per response.

Respondents/Affected Entities: Insurance companies reinsured by FCIC.

Estimated annual number of respondents: 16.

Estimated annual number of responses per respondent: 1.

Estimated annual number of responses: 16.

Estimated total annual burden on respondents (hours): 4,464.

Estimate of Burden: The public reporting burden for the collection of Conflict of Interest information is estimated to average 1 hour per response.

Respondents/Affected Entities: Approved Insurance Provider's employees and their contracted agents and loss adjusters.

Estimated annual number of respondents: 20,800.

Estimated annual number of responses per respondent: 1.

Estimated annual number of responses: 20,800.

Estimated total annual burden on respondents (hours): 20,800.

Estimate of Burden: The public reporting burden for the agent and loss adjuster training requirements is estimated to average 6 hours per response.

Respondents/Affected Entities: Agent and Loss adjusters participating in the crop insurance program (training).

Estimated annual number of respondents: 18,500.

Estimated annual number of responses per respondent: 1.

Estimated annual number of responses: 18,500.

Estimated total annual burden on respondents (hours): 111,000.

All responses to this notice will be summarized and included in the request for OMB approval. All comments will also become a matter of public record.

Total burden for this paperwork package will be 136,264.

Signed in Washington, DC, on June 30, 2006.
Eldon Gould,
Manager, Federal Crop Insurance Corporation.

[FR Doc. E6-10607 Filed 7-6-06; 8:45 am]

BILLING CODE 3410-08-P